DEPARTMENT OF AGRICULTURE

Forest Service

Custer Gallatin National Forest; Montana; Revision of the Land Management Plan for the Custer Gallatin National Forest

AGENCY: Forest Service, USDA.

ACTION: Notice of intent to prepare an environmental impact statement.

SUMMARY: The U.S. Department of Agriculture, Forest Service, is preparing the Custer Gallatin National Forest's revised land management plan (forest plan). The Forest Service will prepare an environmental impact statement (EIS) for its revised forest plan.

This notice briefly describes the proposed action based on the need to change the existing forest plans, the nature of the decision to be made, and information concerning public participation. This notice also describes estimated dates for filing the environmental impact statement, the name and address of the responsible agency officials, and the individuals who can provide additional information. Finally, this notice identifies the applicable planning rule that will be used for completing the plan revision.

The revised Custer Gallatin Forest Plan will replace the existing Custer and Gallatin National Forest plans that were approved by the Regional Forester in 1986 and 1987. The existing forest plans will remain in effect until the revised forest plan takes effect.

In response to this notice we are asking for comments on the proposed action and the Regional Forester's list of species of conservation concern. The full text of the proposed action, maps, and information on public engagement opportunities can be found at www.fs.usda.gov/custergallatin by clicking on “Forest Plan Revision” and the link of interest. Information related to the Regional Forester's list of species of conservation concern can be found at http://bit.ly/NorthernRegion-SCC. Input gathered during this scoping period, as well as other information, will be used to prepare the draft forest plan and the draft EIS.

DATES: Comments concerning the proposed action provided in this notice will be most useful in development of the draft forest plan and draft environmental impact statement. Comments must be received, in writing, on or before March 5, 2018. The draft EIS is expected autumn of 2018 and the final EIS is expected summer of 2019.

ADDRESSES: Comments may be submitted electronically online at https://www.fs.usda.gov/project/?project=50185 or by navigating to www.fs.usda.gov/custergallatin and clicking on “Forest Plan Revision—Commenting” and following on-screen instructions. Written comments concerning this notice should be addressed to Custer Gallatin National Forest, Attn: Forest Plan Revision Team, P.O. Box 130 (10 E Babcock), Bozeman, MT 59771. Comments may also be sent via email to cgplanrevision@fs.fed.us with subject line: “Comment draft plan, CGNF” or via facsimile to 406-587-6758.

All comments, including names and addresses when provided, are placed in the record and are available for public inspection and copying. The public may inspect comments received by visiting the public reading room online at www.fs.usda.gov/custergallatin and clicking on “Forest Plan Revision—Public Reading Room.”

FOR FURTHER INFORMATION CONTACT: Forest Plan Revision Team Leader Virginia Kelly or Forest Plan Revision Public Affairs Specialist Mariah Leuschen-Lonergan by emailing cgplanrevision@fs.fed.us or mail at Custer Gallatin National Forest, Attn: Forest Plan Revision Team, P.O. Box 130 (10 E Babcock), Bozeman, MT 59771. Additional information concerning the planning process can be found online at https://www.fs.usda.gov/custergallatin by clicking on “Forest Plan Revision.”

Individuals who use telecommunication devices for the deaf (TDD) may call the Federal Information Relay Service (FIRS) at 1-800-877-8339 between 8:00 a.m. and 8:00 p.m., Eastern Standard Time, Monday through Friday.

SUPPLEMENTARY INFORMATION:

Purpose and Need for Action

The purpose of the Custer Gallatin National Forest plan revision is to set forth guidance for future decision making which provides people and communities with a range of social and economic benefits, promotes sound land stewardship in partnership with communities, and maintains or restores ecological integrity. The plan revision will implement the Forest Service's 2012 Land Management Planning Rule (36 CFR part 219), which requires inclusion of plan components that address multiple uses; social, economic, and ecological sustainability; ecosystem services; and species diversity.

Public involvement, along with science-based evaluations such as the findings from the development of the Assessment of the Custer Gallatin National Forest, have helped identify the need to change the existing forest plans. As described in the Preliminary Need for Change, the need for the plan revision is due to lack of direction for certain resources, stressors and land uses, as well as new policy requirements, since the Custer National Forest and the Gallatin National Forest plans were approved in 1986 and 1987. In addition, the Custer National Forest and the Gallatin National Forest were recently adminstratively combined and there is a need to provide clear and consistent plan direction through one unified forest plan across the administrative unit.

To implement the requirements of the 2012 planning rule, new management direction is needed to:

• Contribute to social and economic sustainability by providing people and communities with a range of social and economic benefits for present and future generations. These benefits include timber production, grazing, recreation, and additional multiple uses.

• Provide for ecological sustainability by addressing ecosystem diversity (including key ecosystem characteristics and their integrity), in light of stressors such as changes in climate.

• Provide for species diversity by maintaining or restoring vegetation and ecosystems, including for threatened and endangered species, species of conservation concern, and species of public interest.

• Provide for multiple uses by addressing suitability of certain areas for particular uses; addressing access and sustainable recreation; providing for the management of existing and anticipated uses, as well as protecting resources.

• Identify and evaluate lands that may be suitable for inclusion in the National Wilderness Preservation System.

• Identify eligible rivers for inclusion in the National Wild and Scenic Rivers System.

Public participation through scoping may identify other issues or concerns that will be considered during the plan revision.

Proposed Action

The Forest Service is preparing the revised forest plan for the Custer Gallatin National Forest. The full proposed action for the revised forest plan includes forestwide and geographic area desired conditions, goals, objectives, standards, guidelines, and the suitability of lands for specific multiple uses. The proposed action includes lands that could be recommended to Congress for inclusion in the National Wilderness Preservation System and the identification of rivers eligible for inclusion in the National Wild and Scenic Rivers System. The proposed action includes a description of the plan area's distinctive roles and contributions within the broader landscape, the identification of priority restoration watersheds, and suitability of national forest lands to support a variety of proposed and possible actions that may occur on the plan area over the life of the plan. The proposed action also identifies a monitoring program. The proposed action and appendices can be found on the Custer Gallatin National Forest Revision website at www.fs.usda.gov/custergallatin by clicking on “Forest Plan Revision.”

Responsible Official

The responsible official who will approve the Record of Decision for the Custer Gallatin National Forest revised forest plan is Mary Erickson, Forest Supervisor for the Custer Gallatin National Forest, P.O. Box 130, (10 E Babcock), Bozeman, MT 59771.

Nature of Decision To Be Made

For the Custer Gallatin National Forest plan revision, the responsible official will decide whether the required plan components (desired conditions, goals, objectives, standards, guidelines, and suitability) are sufficient to promote the ecological integrity and sustainability of the Custer Gallatin National Forest's ecosystems, watersheds, and diverse plant and animal communities. In addition, the responsible official will decide if the plan provides sufficient management guidance to contribute to social and economic sustainability, to provide people and communities with ecosystem services and multiple uses including a range of social, economic, and ecological benefits for the present and into the future. Standards, guidelines, and other direction related to conservation of at-risk species will be evaluated for the Custer Gallatin National Forest in the EIS.

This proposed action is programmatic in nature and guides future implementation of site-specific projects. Additional National Environmental Policy Act (NEPA) compliance would be required for site-specific projects as part of a two-stage decision making process (40 CFR 1508.23, 42 U.S.C. 4322(2)(C)), 36 CFR 219.7(f)).

Scoping Process

This notice of intent initiates the scoping process, which guides the development of the draft forest plan and draft EIS. We are seeking your input to continue to develop the Custer Gallatin National Forest revised plan.

Community meetings will be held to provide additional information and address questions related to the proposed action. Dates and locations will be posted on the Custer Gallatin Forest plan revision web page at www.fs.usda.gov/custergallatin and clicking on “Public Involvement.” Any changes to the meeting schedule will be communicated on the same web page.

It is important that reviewers provide their comments at such times and in such manner that they are useful to the agency's preparation of the environmental impact statement. Therefore, comments should be provided prior to the close of the comment period and should clearly articulate the reviewer's concerns and as well as proposed solutions. Further instructions for providing comments that will assist the planning team in reviewing comments can be found at www.fs.usda.gov/custergallatin by clicking on “Forest Plan Revision—Commenting.”

Decision Will Be Subject to Objection

Only those individuals and entities who have submitted substantive formal comments related to the Custer Gallatin National Forest plan revision during the opportunities provided for public comment during the planning process will be eligible to file an objection (36 CFR 219.53(a)). The decision to approve the revised forest plan for the Custer Gallatin National Forest will be subject to the objection process identified in 36 CFR part 219 Subpart B (219.50 to 219.62).

Comments received in response to this solicitation, including names and addresses of those who comment, will be part of the public record for this proposed action. Comments submitted anonymously will be accepted and considered, however, anonymous comments will not provide the Agency with the ability to provide the respondent with subsequent environmental documents.

Dated: December 8, 2017.
Chris French,
Associate Deputy Chief, National Forest System.

[FR Doc. 2017-28402 Filed 1-2-18; 8:45 am]

BILLING CODE 3411-15-P